DEPARTMENT OF THE INTERIOR

Bureau of Land Management

[(WY-060-1320-EL), WYW154432]

Notice of Availability of Maysdorf Coal Lease Application Draft Environmental Impact Statement and Federal Coal Notice of Hearing, Wyoming

AGENCY: Bureau of Land Management, Interior.

ACTION: Notice of Availability (NOA) of a draft environmental impact statement (DEIS) and notice of public hearing for coal lease by application (LBA) WYW154432 in the decertified Powder River Federal Coal Production Region, Wyoming.

SUMMARY: Under the National Environmental Policy Act (NEPA) and the implementing regulations, the Bureau of Land Management (BLM) announces the availability of the Maysdorf Coal DEIS and announces a public hearing pursuant to 43 Code of Federal Regulations (CFR) 3425.4.

DATES: Requests to be included on the mailing list and to receive copies of the DEIS and notification of the comment period and hearing date should be sent to the address, facsimile number, or electronic address listed below. Written comments on the DEIS will be accepted for 60 days following the date that the Environmental Protection Agency (EPA) publishes their NOA of the DEIS in the Federal Register. The BLM asks that those submitting comments on the DEIS make them as specific as possible with reference to page numbers and chapters of the document. Comments that contain only opinions or preferences will not receive a formal response; however, they will be considered and included as part of the BLM decision-making process. The public hearing will be held at 7 p.m. MST, on June 13, 2006, at the Clarion Hotel, 2009 South Douglas Highway, Gillette, Wyoming.

ADDRESSES: Please address questions, comments, or concerns to the Casper Field Office, Bureau of Land Management, Attn: Nancy Doelger, 2987 Prospector Drive, Casper, Wyoming 82604, fax them to 307-261-7587, or send e-mail comments to the attention of Nancy Doelger at casper_wymail@blm.gov. A copy of the DEIS has been sent to affected Federal, State, and local Government agencies; persons, and entities identified as potentially being affected by a decision to lease the Federal coal in this tract; and persons who indicated to the BLM that they wished to receive a copy of the DEIS. Copies of the DEIS are available for public inspection at the following BLM office locations: BLM Wyoming State Office, 5353 Yellowstone Road, Cheyenne, Wyoming 82009; and BLM Casper Field Office, 2987 Prospector Lane, Casper, Wyoming 82604.

FOR FURTHER INFORMATION CONTACT: Nancy Doelger or Mike Karbs at the above address, or telephone: 307-261-7600.

SUPPLEMENTARY INFORMATION: The DEIS analyzes and discloses to the public direct, indirect, and cumulative environmental impacts of issuing a Federal coal lease in the Wyoming portion of the Powder River Basin. The purpose of the public hearing is to solicit comments on the DEIS on the proposed competitive sale of the Federal coal in the Maysdorf Coal tract, and on the fair market value and maximum economic recovery of the Federal coal. The BLM is considering a coal lease issuance as a result of a September 20, 2001 application made by Cordero Mining Company (CMC) to lease Federal coal near the Cordero Rojo Mine approximately 15 miles south-southeast of Gillette, Wyoming. in Campbell County, Wyoming.

Cordero, the operator of the mine, applied to lease the tract as a maintenance tract to extend the life of their existing mining operations under the provisions of the Leasing on Application regulations at 43 CFR 3425. This tract, case number WYW154432, is referred to as the Maysdorf Coal tract.

On November 8, 2004, BLM received a request from CMC to modify the Maysdorf Coal tract. The following lands in Campbell County, Wyoming are included in the tract as currently filed:

T. 46 N., R. 71 W., 6th P.M., Wyoming

Sec. 4: Lots 5, 6, 7 (E½ E½), 10 (E½ E½), 11, 12;

Sec. 10: Lots 1, 2, 3 (N½, N½ S½), 4 (N½, N½ S½), 5 (N½, N½ S½), 6 (N½, N½ S½);

Sec. 11: Lots 1 through 8, 9 (N½, N½ S½), 10 (N½, N½ S½), 11 (N½, N½ S½), 12 (N½, N½ S½);

T. 47 N., R. 71 W, 6th P.M., Wyoming

Sec. 8: Lots 3 through 6, 11 through 13;

Sec. 21: Lots 1, 2, 3 (E½ E½), 6 (E½ E½), 7 through 10, 11 (E½ E½), 14 (E½ E½), 15, 16;

Sec. 28: Lots 1, 2, 3 (E½ E½), 6 (E½ E½), 7 through 10, 11 (E½ E½), 14 (E½ E½), 15, 16;

Sec. 33: Lots 1, 2, 3 (E½ E½), 6 (E½ E½), 7 through 10, 11 (E½ E½), 14 (E½ E½), 15, 16;

Total Acres: 2,219.39 acres, more or less.

The tract as currently filed includes an estimated 230.30 million tons of in-place coal.

The Cordero Rojo Mine is adjacent to the lease application area and has an approved mining and reclamation plan from the Land Quality Division of the Wyoming Department of Environmental Quality (DEQ). The Mine has an approved air quality permit from the Air Quality Division of the Wyoming DEQ to mine up to 65 million tons of coal per year.

The Office of Surface Mining Reclamation and Enforcement (OSM), the Land Quality Division of the Wyoming Department of Environmental Quality (WDEQ), and the Wyoming State Planning Office (WSPO) are cooperating agencies in the preparation of the DEIS. If the tract is leased as a maintenance tract, the new lease will be incorporated into the existing mining and reclamation plan for the adjacent mine. The Secretary of the Interior must approve the revision to the Mineral Leasing Act (MLA) mining plan before the Federal coal can be mined. If the tract is leased, OSM is the Federal agency that would be responsible for recommending approval, approval with conditions, or disapproval of the revised MLA mining plan to the Office of the Secretary of the Interior. WDEQ has entered into a cooperative agreement with the Secretary of the Interior to regulate surface coal mining operations on Federal and non-Federal lands within the State of Wyoming. WSPO coordinates planning within state agencies and facilitates collaboration among the agencies, the Federal Government, other states, the private sector, and the general public.

The DEIS analyzes leasing the tract as applied for as described above as a separate Proposed Action. Under this alternative, a competitive sale would be held and a lease issued for Federal coal in the tract as applied for by Cordero. As part of the coal leasing process, BLM has identified and is evaluating other tract configurations which add Federal coal to avoid bypassing coal or to prompt competitive interest in the unleased Federal coal in this area. The tract configurations that BLM has identified are described and analyzed as separate alternatives in the DEIS. Under these alternatives, a competitive sale would be held and a lease issued for Federal coal lands included in a tract modified by the BLM. The DEIS also analyzes the alternative of rejecting the application to lease Federal coal as the No Action Alternative. The Proposed Action and Alternatives being considered in the DEIS are in conformance with the “Approved Resource Management Plan for Public Lands Administered by the Bureau of Land Management Buffalo Field Office” (April 2001).

Comments, including names and street addresses of respondents, will be available for public review at the Casper Field Office at the address listed above during regular business hours (7:45 a.m. through 4:30 p.m.), Monday through Friday, except holidays. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety.

Robert A. Bennett,
State Director.

[FR Doc. E6-8085 Filed 5-25-06; 8:45 am]

BILLING CODE 4310-22-P